DEPARTMENT OF ENERGY

Federal Energy Regulatory Commission

[Docket No. RP00-559-003]

Reliant Energy Gas Transmission Company; Notice Withdrawing Tariff Sheets

March 20, 2001.

Take notice that on March 13, 2001, Reliant Energy Gas Transmission Company (REGT) tendered for filing a notice that it was withdrawing tariff sheets filed September 22 and 25, 2000, in this docket. Such sheets were filed as part of REGT's proposed inkind balancing option for Shippers under Rate Schedule ANS. Although REGT submits that the tariff sheet never became effective, REGT also tendered for filing the following substitute tariff sheets, requesting a November 1, 2000 effective date, to restore the tariff provisions on the applicable sheets to those in effect prior to REGT's September filings:

Substitute First Revised Sheet No. 10

Substitute First Revised Sheet No. 71

Substitute First Revised Sheet No. 72

Substitute First Revised Sheet No. 74

Substitute First Revised Sheet No. 75

Substitute First Revised Sheet No. 76

Substitute Second Revised Sheet No. 311

Substitute First Revised Sheet No. 317

Any person desiring to protest said filings should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-7367 Filed 3-23-01; 8:45 am]

BILLING CODE 6717-01-M